DEPARTMENT OF TRANSPORTATION

Pipeline and Hazardous Materials Safety Administration

Hazardous Materials: Notice of Applications for Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before November 13, 2017.

ADDRESSES: Record Center, Pipeline and Hazardous Materials Safety Administration U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with part 107 of the Federal hazardous materials transportation law (49 U.S.C. 5117(b); 49 CFR 1.53(b)).

Issued in Washington, DC, on September 29, 2017.
Donald Burger,
Chief, General Approvals and Permits Branch.

Special Permits Data
Application No. | Docket No. | Applicant | Regulation(s) affected | Nature of the special permits thereof
20540-N |  | LINDE GAS NORTH AMERICA LLC | 173.163(b) | To authorize the transportation in commerce of DOT specification 3A and 3AA cylinders containing certain hazardous materials after previously containing hydrogen fluoride. (Modes 1, 2, 3).
20541-N |  | ISGEC HEAVY ENGINEERING LTD | 179.300-19(a) | To authorize the manufacture, mark, sale, and use of DOT specification tank cars that have been inspected outside of the United States. (Mode 1).
20543-N |  | SODASTREAM USA, INC | 172.301(c), 180.209 | To authorize the transportation in commerce of certain cylinders that are authorized to be requalified every 10 years. (Modes 1, 2, 3).
20545-N |  | STANDARD FUSEE CORPORATION | 172.101, 172.202, 172.301, 172.401 | To authorize the transportation in commerce of certain explosive materials reclassed as Division 4.1. (Modes 1, 2, 3, 4, 5).
20546-N |  | DEPARTMENT OF DEFENSE (MILITARY SURFACE DEPLOYMENT & DISTRIBUTION COMMAND) | 173.159(d) | To authorize the transportation in commerce of batteries in metal drums or boxes as strong outer packagings. (Modes 1, 2, 3, 4).
20547-N |  | FISHER SCIENTIFIC COMPANY LLC | 173.158(e) | To authorize the one time transportation of nitric acid without tightly closed intermediate inner packagings cushioned with an absorbent material. (Mode 1).
20549-N |  | CORNERSTONE ARCHITECTURAL PRODUCTS LLC | 172.102(c)(1), 172.200, 172.300, 172.400, 172.700(a) | To authorize the manufacture, marking, sale and use of non-DOT specification fiberboard boxes for the transportation in commerce of certain batteries without shipping papers, marking of the proper shipping name and identification number or labeling, when transported for recycling or disposal. (Modes 1, 3).
20550-N |  | NORTHSTAR TREKKING | 172.101(j), 172.200, 172.204(c)(3), 172.300, 173.1, 173.27(b)(2), 175.30(a)(1), 175.75 | To authorize the transportation in commerce of certain hazardous materials by external load with a helicopter in remote areas of the U.S. without being subject to hazard communication requirements and quantity limitations where no other means of transportation is available. (Mode 4).
20551-N |  | MONDY GLOBAL, INC | 173.304(a) | To authorize the transportation in commerce of non-DOT specification cylinders containing refrigerant gases for the purpose of transferring the materials to compliant packagings outside of the port area. (Mode 1, 3).
20556-N |  | SAFT AMERICA INC | 172.101(j) | To authorize the transportation in commerce of lithium ion batteries in excess of 35 kg net weight by cargo-only aircraft.

[FR Doc. 2017-21849 Filed 10-10-17; 8:45 am]

BILLING CODE 4901-60-P